DEPARTMENT OF STATE

[Public Notice 11663]

Clean Energy Resources Advisory Committee

ACTION: Announcement of meeting.

SUMMARY: The Department of State will host a virtual, open meeting of the Clean Energy Resources Advisory Committee (CERAC). There will not be an in-person option for this meeting.

DATES:

Date and Time: CERAC will meet virtually March 15, 2022 from 11:00 to 12:30 (EST).

Participation: Members of the public wishing to participate must RSVP by March 8, 2022 via email to CERAC@state.gov (subject line: RSVP). The Department will provide login information prior to the meeting. Requests for reasonable accommodation should be submitted no later than March 8, 2022. Reasonable accommodation requests received after that date will be considered, but may not be possible to fulfill.

FOR FURTHER INFORMATION CONTACT: Bureau of Energy Resources Senior Energy Officer Sara Ferchichi at CERAC@state.gov.

SUPPLEMENTARY INFORMATION:

Purpose: This Committee will provide input and advice regarding energy minerals and metals, their supply chains, and end uses. The purpose of this inaugural meeting is to provide introductions and discuss priorities for the Committee moving forward.

Statements: Comments should be emailed to CERAC@state.gov with “PUBLIC COMMENT” as the subject line at least 48 hours before the start of the meeting. During this meeting, there will not be an option for members of the public to make oral statements.

Zachary A. Parker,
Director, Office of Directives Management, U.S. Department of State.

[FR Doc. 2022-04091 Filed 2-25-22; 8:45 am]

BILLING CODE 4710-AE-P